DEPARTMENT OF TRANSPORTATION

Federal Aviation Administration

14 CFR Parts 121, 135

[Docket No.: FAA-2007-26969; Amendment Nos. 121-331 and 135-109]

RIN 2120-AI99

Change in Extinguishing Agent Container Requirements

AGENCY: Federal Aviation Administration (FAA), DOT.

ACTION: Direct final rule; request for comments.

SUMMARY: This action aligns the operational and certification safety requirements regarding over-pressurization of airplane extinguishing agent containers or fire bottles to prevent bursting; and it removes an obsolete section reference from part 135. This action eliminates the requirement for an over-pressurized fire bottle to discharge extinguishing agent outside an airplane to prevent bursting, because newer non-corrosive extinguishing agents can now be discharged inside an airplane without degrading an airframe.

DATES: Effective June 4, 2007.

Comments for inclusion in the Rules Docket must be received on or before May 21, 2007.

ADDRESSES: Commenting on this Direct Final Rule. You may send comments identified by Docket Number FAA-2007-26969, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

FOR FURTHER INFORMATION CONTACT: Joel Schlossberg, Aircraft Maintenance Division, Flight Standards Service, Federal Aviation Administration, 800 Independence Avenue, SW., Washington, DC 20591. Telephone: (202-267-8908); facsimile: (202-267-5115); e-mail: joel.schlossberg@faa.gov.

SUPPLEMENTARY INFORMATION: Later in this preamble under the Additional Information section, we discuss how you can comment on this direct final rule and how we will handle your comments. Included in this discussion is related information about the docket. We also discuss how you can get a copy of this direct final rule and any related rulemaking documents.

Authority for This Rulemaking

The FAA's authority to issue rules regarding aviation safety is found in Title 49 of the United States Code. This rulemaking is promulgated under the authority described in Subtitle VII, Part A, Subpart III, Section 44701, “General requirements.” Under that section, the FAA is charged with promoting safe flight of civil aircraft in air commerce by prescribing:

• Minimum standards required in the interest of safety for the design and performance of aircraft; and

• Regulations for other practices, methods, and procedures the Administrator finds necessary for safety in air commerce and national security.

This regulation is within the scope of that authority because it prescribes:

• Standards for the safe operation of transport category airplanes; and

• Practices, methods, and procedures that the Administrator finds necessary for safety in air commerce and national security.

Background

Since at least 1949, the FAA has required fire extinguishing containers (fire bottle) to have a pressure relief line to prevent a container from bursting in case of excessive internal pressure. This pressure relief line would discharge the extinguishing agent from the fire bottle. Historically, fire extinguishing agents were corrosive materials that could degrade an airframe. Therefore, in both airplane certification and operational rules, the FAA required any discharge for pressure relief to be only outside the airplane.

Eventually, industry developed non-corrosive extinguishing agents. Therefore, on March 17, 1977, the FAA published in the Federal Register a final rule ¹ that amended the airplane certification rules in 14 CFR 25.1199 to adopt a performance standard. This rule changed the airplane certification standards, to require airplane manufacturers to place pressure relief discharge lines in such a way to not damage an airplane. See 40 FR 21866, 21871. Thus, the pressure relief discharge line could be located either inside or outside the airplane, as long as a discharge would not damage the airplane.

¹ Airworthiness Review Program—Amendment No. 4: Powerplant Amendments (42 FR 15034).

However, the corresponding operational requirements in § 121.267, and by reference in § 135.169, were not changed in 1977 and therefore only allow for the termination of the fire bottle discharge line outside the airplane. As a result of this discrepancy, in a request dated July 5, 2006, Aeronautical Charters, Inc. submitted a petition for exemption ² from § 121.267 for their part 135 airplane model (Citation 550). The difference between the certification and operational requirements has caused confusion, which is likely to result in more exemption requests. The FAA proceeds with this direct final rule to align the certification and operational requirements. This rule maintains safety because the reason for the original limitation (outside discharge) is no longer a concern with the development and use of non-corrosive extinguishing agents.

² Docket FAA-2006-25325.

This direct final rule also removes an obsolete section reference from part 135. In a December 20, 1995 rulemaking,³ the FAA removed and reserved § 121.213, which contained special airworthiness requirements. We included those requirements in § 121.211 (Applicability). However, we inadvertently left a reference to § 121.213 in § 135.169(a). This direct final rule amends part 135 to remove the reference to § 121.213.

³ Commuter Operations and General Certification and Operations Requirements; Air Carrier and Commercial Operator Training Programs; Final Rules (60 FR 65832).

The Direct Final Rule Process

The FAA anticipates that this regulation will not result in adverse or negative comment and, therefore, we are issuing it as a direct final rule. We believe we will not get adverse comments because this action will—

• Correct a discrepancy in the certification and operational rules that could potentially ground affected airplanes.

• Eliminate the need for operators to petition the FAA for an exemption from the fire bottle requirements in § 121.267.

• Not place any new requirements or additional burden on affected operators.

Unless we receive a written adverse or negative comment, or a written notice of intent to submit an adverse or negative comment within the comment period, the regulation will become effective on the date specified above. After the close of the comment period, the FAA will publish a document in the Federal Register that indicates we received no adverse or negative comments and confirms the date the final rule will become effective. If the FAA does receive, within the comment period, an adverse or negative comment, or written notice of intent to submit such a comment, we will publish a document withdrawing the direct final rule in the Federal Register, and a notice of proposed rulemaking may be published with a new comment period.

Paperwork Reduction Act

There are no current or new requirements for information collection associated with these amendments.

International Compatibility

The FAA has reviewed corresponding International Civil Aviation Organization International Standards and Recommended practices and similar regulations of foreign authorities, where they exist, and has identified no differences in these proposed amendments and the foreign regulations.

Economic Evaluation, Regulatory Flexibility Act, Trade Impact Assessment, and Unfunded Mandates Assessment

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits a statement to that effect and the basis for it to be included in the preamble if a full regulatory evaluation of the cost and benefits is not prepared. Such a determination has been made for this final rule. The reasoning for this determination follows: This action aligns the operational and certification safety requirements regarding over-pressurization of airplane extinguishing agent containers or fire bottles to prevent bursting; and it removes an obsolete section reference from part 135. This action eliminates the requirement for an over-pressurized fire bottle to discharge extinguishing agent outside an airplane to prevent bursting, because newer non-corrosive extinguishing agents can now be discharged inside an airplane without degrading an airframe.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

This final rule aligns the operational and certification safety requirements regarding over-pressurization of airplane extinguishing agent containers or fire bottles to prevent bursting; and it removes an obsolete section reference from part 135. Its economic impact is minimal. Therefore, as the FAA Administrator, I certify that this rule will not have a significant economic impact on a substantial number of small entities.

Trade Impact Assessment

The Trade Agreements Act of 1979 prohibits Federal agencies from engaging in any standards or related activities that create unnecessary obstacles to the foreign commerce of the United States. Legitimate domestic objectives, such as safety, are not considered unnecessary obstacles. The statute also requires consideration of international standards and where appropriate, that they be the basis for U.S. standards. The FAA has assessed the potential effect of this final rule and has determined that it will have the same cost relieving impact on domestic and international entities and thus has a neutral trade impact.

Unfunded Mandates Assessment

Title II of the Unfunded Mandates Reform Act of 1995 (Pub. L. 104-4) requires each Federal agency to prepare a written statement assessing the effects of any Federal mandate in a proposed or final agency rule that may result in a $100 million or more expenditure (adjusted annually for inflation). The FAA currently uses an inflation-adjusted value of $128.1 million in lieu of $100 million.

This final rule does not contain such a mandate. Therefore, the requirements of Title II do not apply to this regulation.

Executive Order 13132, Federalism

The FAA has analyzed this final rule under the principles and criteria of Executive Order 13132, Federalism. We determined that this action will not have a substantial direct effect on the States, or the relationship between the national Government and the States, or on the distribution of power and responsibilities among the various levels of government. Therefore, we determined that this final rule does not have federalism implications.

Environmental Analysis

FAA Order 1050.1E identifies FAA actions that are categorically excluded from preparation of an environmental assessment or environmental impact statement under the National Environmental Policy Act in the absence of extraordinary circumstances. The FAA has determined this proposed rulemaking action qualifies for the categorical exclusion identified in paragraph 312 and involves no extraordinary circumstances.

Regulations that Significantly Affect Energy Supply, Distribution, or Use

The FAA has analyzed this final rule under Executive Order 13211, Actions Concerning Regulations that Significantly Affect Energy Supply, Distribution, or Use (66 FR 28355, May 18, 2001). We have determined that it is not a “significant energy action” under the executive order because it is not a “significant regulatory action” under Executive Order 12866, and it is not likely to have a significant adverse effect on the supply, distribution, or use of energy.

Additional Information

Commenting on this Direct Final Rule

You may send comments identified by Docket Number FAA-2007-26969, using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

Availability of Rulemaking Documents

You can get an electronic copy using the Internet by:

1. Searching the Department of Transportation's electronic Docket Management System (DMS) web page (http://dms.dot.gov/search);

2. Visiting the FAA's Regulations and Policies web page at http://www.faa.gov/regulations_policies/; or

3. Accessing the Government Printing Office's web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Small Business Regulatory Enforcement Fairness Act

The Small Business Regulatory Enforcement Fairness Act (SBREFA) of 1996 requires FAA to comply with small entity requests for information or advice about compliance with statutes and regulations within its jurisdiction. If you are a small entity and you have a question regarding this document, you may contact your local FAA official, or the person listed under the FOR FURTHER INFORMATION CONTACT heading at the beginning of the preamble. You can find out more about SBREFA on the Internet at http://www.faa.gov/regulations_policies/rulemaking/sbre_act/.

List of Subjects

14 CFR Part 121

Air carriers, Aircraft, Airmen, Alcohol abuse, Aviation safety, Reporting and recordkeeping requirements, Safety, Transportation.

14 CFR Part 135

Aircraft, Airmen, Aviation safety, Reporting and recordkeeping requirements.

The Amendment

In consideration of the foregoing, the Federal Aviation Administration amends Chapter I of Title 14, Code of Federal Regulations as follows:

PART 121—OPERATING REQUIREMENTS: DOMESTIC, FLAG, AND SUPPLEMENTAL OPERATIONS

1.The authority citation for part 121 continues to read as follows:

Authority: 49 U.S.C. 106(g), 40113, 40119, 41706, 44101, 44701-44702, 44705, 44709-44711, 44713, 44716-44717, 44722, 44901, 44903-44904, 44912, 45101-45105, 46105, 46301.

2. Section 121.267 is revised to read as follows:

§ 121.267 Extinguishing agent container pressure relief mechanism.

(a) Extinguishing agent containers must be provided with a pressure relief mechanism to prevent bursting of the container because of excessive internal pressures. The discharge line from the relief connection must be installed in a manner so it can be inspected from the ground. Depending upon whether the discharge line terminates outside or inside the airplane, the certificate holder must accomplish the following inspections pre-departure:

(1) The discharge line terminates outside the airplane. As part of the pre-departure check, visually inspect the pressure indicator at the end of the discharge line to confirm that the container has not discharged.

(2) The discharge line terminates inside the airplane. As part of a pre-departure check, visually inspect the pressure indicator for the container for loss of pressure within the container.

(b) The certificate holder also must ensure that only non-corrosive extinguishing agents are used in systems where the pressure discharge line terminates inside the airplane.

PART 135—OPERATING REQUIREMENTS: COMMUTER AND ON DEMAND OPERATIONS AND RULES GOVERNING PERSONS ON BOARD SUCH AIRCRAFT

3. The authority citation for part 135 continues to read as follows:

Authority: 49 U.S.C. 106(g), 41706, 44113, 44101, 44701-44702, 44705, 44709, 44711-44713, 44715-44717, 44722.

4. Amend § 135.169 by revising paragraph (a) to read as follows:

§ 135.169 Additional airworthiness requirements.

(a) Except for commuter category airplanes, no person may operate a large airplane unless it meets the additional airworthiness requirements of §§ 121.215 through 121.283 and 121.307 of this chapter.

* * * * *

Marion C. Blakey,
Administrator.

[FR Doc. 07-1937 Filed 4-19-07; 8:45 am]

BILLING CODE 4910-13-P